DEPARTMENT OF THE INTERIOR

Fish and Wildlife Service

[FWS-R8-FHC-2013-N169; FXFR1334088TWG0W4-123-FF08EACT00]

Trinity Adaptive Management Working Group; Public Meeting, Teleconference and Web-Based Meeting

AGENCY: Fish and Wildlife Service, Interior.

ACTION: Notice.

SUMMARY: We, the U.S. Fish and Wildlife Service, announce a joint meeting between the Trinity Adaptive Management Working Group (TAMWG) and Trinity Management Council (TMC).

DATES: Public meeting, Teleconference, and web-based meeting: TAMWG and TMC will meet Tuesday, August 27, 2013, from 9:30 a.m. to 3:30 p.m. Pacific time. Deadlines: For deadlines and directions on registering or to listen to the meeting by phone, listening and viewing on the Internet, and submitting written material, please see “Public Input” under SUPPLEMENTARY INFORMATION.

ADDRESSES: The meeting will start at the North Fork Grange Hall, Dutch Creek Road, Junction City, CA 96048. We will have lunch and the meeting will resume at the Indian Creek Lodge, 59741 California 299, Douglas City, CA 96024. You may participate in person or by teleconference or web-based meeting from your home computer or phone.

FOR FURTHER INFORMATION CONTACT: Elizabeth W. Hadley, Redding Electric Utility, 777 Cypress Avenue, Redding, CA 96001; telephone: 530-339-7327; email: ehadley@reupower.com.

SUPPLEMENTARY INFORMATION: In accordance with the requirements of the Federal Advisory Committee Act, 5 U.S.C. App., this notice announces a joint meeting of the TAMWG and TMC.

Background

The TAMWG affords stakeholders the opportunity to give policy, management, and technical input concerning Trinity River (California) restoration efforts to the TMC. The TMC interprets and recommends policy, coordinates and reviews management actions, and provides organizational budget oversight.

Meeting Agenda

• How are we doing at TMC/TAMWG communication? What can we do to improve?,

• Phase 1 Restoration Evaluation,

• Decision Support System, and

• Update on 2013 fall flows.

The final agenda will be posted on the Internet at http://www.fws.gov/arcata.

Public Input

If you wish to | You must contact Elizabeth Hadley (FOR FURTHER INFORMATION CONTACT) no later than
Listen to the teleconference/web-based meeting via telephone or Internet | August 20, 2013.
Submit written information or questions for the TAMWG to consider during the teleconference | August 20, 2013.

Submitting Written Information or Questions

Interested members of the public may submit relevant information or questions for the TAMWG to consider during the meeting. Written statements must be received by the date listed in “Public Input,” so that the information may be available to the TAMWG for their consideration prior to this teleconference. Written statements must be supplied to Elizabeth Hadley in one of the following formats: One hard copy with original signature, and one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 15 days after the meeting, and will be posted on the TAMWG Web site at http://www.fws.gov/arcata.

Dated July 25, 2013.
Joseph C. Polos,
Supervisory Fish Biologist, Arcata Fish and Wildlife Office, Arcata, California.

[FR Doc. 2013-18356 Filed 7-30-13; 8:45 am]

BILLING CODE 4310-55-P